DEPARTMENT OF HEALTH AND HUMAN SERVICES

National Institutes of Health

Office of Loan Repayment and Scholarship, Submission for OMB Review; Comment Request; National Institutes of Health Undergraduate Scholarship Program for Individuals From Disadvantaged Backgrounds

SUMMARY: In compliance with the requirement of Section 3506(c)(2)(A) of the Paperwork Reduction Act of 1995, the Office of Loan Repayment and Scholarship, the National Institutes of Health (NIH), has submitted to the Office of Management and Budget (OMB) a request to review and approve the information collection listed below. This proposed information collection was previously published in the Federal Register on July 26, 1999, and allowed 60 days for public comment. One request for a copy of the data collection instrument was received and fulfilled. The purpose of this notice is to allow an additional 30 days for public comment. The National Institutes of Health may not conduct or sponsor, and the respondent is not required to respond to, an information collection that has been extended, revised, or implemented on or after October 1, 1995, unless it displays a currently valid OMB control number.

Proposed Collection: Title: National Institutes of Health Undergraduate Scholarship Program for Individuals from Disadvantaged Backgrounds (UGSP). Type of Information Collection Request: Revision of a previously approved collection (OMB No. 0925-0438, expiration date February 29, 2000). Form Numbers: NIH 2762-1, NIH 2762-2, NIH 2762-3, and NIH 2762-4. Need and Use of Information Collection: The NIH makes available scholarship awards to students from disadvantaged backgrounds who are committed to careers in biomedical research. The scholarships pay for tuition and reasonable educational and living expenses up to $20,000 per academic year at an accredited undergraduate institution. In return, for each year of scholarship support, the recipient is obligated to serve as a full-time paid employee in an NIH research laboratory for 10 consecutive weeks during the months of June through August and for 1 year after graduation. If the recipient pursues a post-graduate degree (graduate, medical, dental, or veterinarian school), the post-graduation service obligation may be deferred with the approval of the Secretary, Department of Health and Human Services. The information proposed for collection will be used by the Office of Loan Repayment and Scholarship to determine an applicant's eligibility for participation in the UGSP. The UGSP is authorized by Section 487D of the Public Health Service (PHS) Act (42 USC 288-2), as amended by the NIH Revitalization Act of 1993 (Publ. L. 103-43). Frequency of Response: Initial application and annual renewal application. Affected Public: Applicants (high school or undergraduate students), recommenders, undergraduate institution financial aid staff. The annual reporting burden estimates are as follows:

Type of respondents | Estimated number of respondents | Estimated number of responses per respondent | Average burden hours per response | Estimated total annual burden hours requested
Applicant | 250 | 1.0 | 3.167 | 791.75
Recommender | 750 | 1.0 | 1.0 | 750.00
Financial Aid Staff | 250 | 1.0 | .5 | 125.00
Totals | 1,250 |  |  | 1,666.75

The annualized cost to respondents is estimated at $29,263.81. There are no capital costs, operating costs, or maintenance costs to report.

Request for comments: Written comments and/or suggestions from the public and affected agencies should address one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Marc S. Horowitz, J.D., Director, Office of Loan Repayment and Scholarship, National Institutes of Health, 7550 Wisconsin Avenue, Room 604, Bethesda, Maryland 20892-9121. Mr. Horowitz can be contacted via e-mail at MHorowitz@nih.gov or by calling (301) 402-5666 (not a toll-free number).

Comments Due Date: Comments regarding this information collection are best assured of having their full effect if received on or before March 6, 2000.

Dated: January 27, 2000.
Ruth L. Kirschstein,
Acting Director, NIH.

[FR Doc. 00-2351 Filed 2-2-00; 8:45 am]

BILLING CODE 4140-01-M